DEPARTMENT OF THE TREASURY

Office of Foreign Assets Control

31 CFR Part 542

Syrian Sanctions Regulations

AGENCY: Office of Foreign Assets Control, Treasury.

ACTION: Final rule.

SUMMARY: The Department of the Treasury's Office of Foreign Assets Control (OFAC) is removing from the Code of Federal Regulations the Syrian Sanctions Regulations as a result of the termination of the national emergency on which the regulations were based and further changes to the policy of the United States towards Syria.

DATES: This rule is effective August 26, 2025.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov.

Background

On May 11, 2004, the President, invoking the authority of, inter alia, the International Emergency Economic Powers Act (50 U.S.C. 1701 et seq.) (IEEPA) and the Syria Accountability and Lebanese Sovereignty Restoration Act of 2003 (Pub. L. 108-175, 117 Stat. 2482 (22 U.S.C. 2151 note)), issued Executive Order (E.O.) 13338 of May 11, 2004, “Blocking Property of Certain Persons and Prohibiting the Export of Certain Goods to Syria” (69 FR 26751, May 13, 2004). In E.O. 13338, the President determined that the actions of the Government of Syria in supporting terrorism, continuing its occupation of Lebanon, pursuing weapons of mass destruction and missile programs, and undermining United States and international efforts with respect to the stabilization and reconstruction of Iraq constituted an unusual and extraordinary threat to the national security, foreign policy, and economy of the United States and declared a national emergency to deal with that threat.

On April 5, 2005, OFAC issued the Syrian Sanctions Regulations, 31 CFR part 542 (70 FR 17201, April 5, 2005) (the “Regulations”), to implement E.O. 13338, pursuant to authorities delegated to the Secretary of the Treasury in E.O. 13338. The Regulations were initially issued in abbreviated form for the purpose of providing immediate guidance to the public.

On May 2, 2014, OFAC reissued the Regulations in their entirety (79 FR 25414, May 2, 2014), and, among other effects, implemented E.O. 13399 of April 25, 2006, “Blocking Property of Additional Persons in Connection With the National Emergency With Respect to Syria” (71 FR 25059, April 28, 2006), E.O. 13460 of February 13, 2008, “Blocking Property of Additional Persons in Connection With the National Emergency With Respect to Syria” (73 FR 8991, February 15, 2008), E.O. 13572 of April 29, 2011, “Blocking Property of Certain Persons With Respect to Human Rights Abuses in Syria” (76 FR 24787, May 3, 2011), E.O. 13573 of May 18, 2011, “Blocking Property of Senior Officials of the Government of Syria” (76 FR 29143, May 20, 2011), E.O. 13582 of August 17, 2011, “Blocking Property of the Government of Syria and Prohibiting Certain Transactions With Respect to Syria” (76 FR 52209, August 22, 2011), and E.O. 13606 of April 22, 2012, “Blocking the Property and Suspending Entry Into the United States of Certain Persons With Respect to Grave Human Rights Abuses by the Governments of Iran and Syria via Information Technology” (77 FR 24571, April 24, 2012).

On June 6, 2024, OFAC further amended the Regulations (89 FR 48310, June 6, 2024) to, among other effects, implement relevant provisions of E.O. 13608 of May 1, 2012, “Prohibiting Certain Transactions With and Suspending Entry Into the United States of Foreign Sanctions Evaders With Respect to Iran and Syria” (77 FR 26409, May 3, 2012), the Syria Human Rights Accountability Act of 2012 (22 U.S.C. 8791 et seq.), the Countering America's Adversaries Through Sanctions Act (22 U.S.C. 9401 et seq.), and the Caesar Syria Civilian Protection Act of 2019 (Pub. L. 116-92, Div. F, Title LXXIV, 133 Stat. 2290 (22 U.S.C. 8791 note)).

On June 30, 2025, the President issued E.O. 14312, “Providing for the Revocation of Syria Sanctions” (90 FR 29395, July 3, 2025) to, among other objectives, remove sanctions on Syria without providing relief to the so-called Islamic State of Iraq and Syria or other terrorist organizations, human rights abusers, those linked to chemical weapons or proliferation-related activities, or other persons that threaten the peace, security, or stability of the United States, Syria, and its neighbors. In E.O. 14312, the President found that the circumstances that gave rise to the actions taken in the Executive orders imposing sanctions on Syria pursuant to the national emergency declared in E.O. 13338, related to the policies and actions of the former regime of Bashar al-Assad, had been transformed by developments over the six months preceding June 30, 2025, including the positive actions taken by the new Syrian government under President Ahmed al-Sharaa. In section 3 of E.O. 14312, the President terminated, effective July 1, 2025, the national emergency declared in E.O. 13338 and revoked that order and E.O.s 13399, 13460, 13572, 13573, and 13582. Additionally, in section 4(b) of E.O. 14312, the President amended E.O. 13606 by removing reference in the preamble to E.O. 13338 and replacing it with reference to E.O. 13894, as relied upon for additional steps and further amended in subsequent Executive orders. Moreover, while E.O. 13608 remains in effect with respect to its Iran and Iran-related antiterrorism and non-proliferation authorities, with the termination of the national emergency declared in E.O. 13338, it no longer has effect with respect to the Syria-specific authorities in furtherance of the national emergency declared in that Executive order.

As a result, OFAC is removing the Regulations from the Code of Federal Regulations. Pursuant to section 202(a) of the National Emergencies Act (50 U.S.C. 1622(a)) and section 3(b) of E.O. 14312, termination of the national emergency declared in E.O. 13338 shall not affect any action taken or pending proceeding not finally concluded or determined as of July 1, 2025, any action or proceeding based on any act committed prior to July 1, 2025, or any rights or duties that matured or penalties that were incurred prior to July 1, 2025.

Section 4(a) of E.O. 14312 further amends E.O. 13894 of October 14, 2019, “Blocking Property and Suspending Entry of Certain Persons Contributing to the Situation in Syria” (84 FR 55851, October 17, 2019) as amended by E.O. 14142 of January 15, 2025, “Taking Additional Steps With Respect to the Situation in Syria” (90 FR 6709, January 17, 2025), to ensure meaningful accountability for perpetrators of war crimes and human rights violations and abuses, and the proliferation of narcotics trafficking networks in and in relation to Syria during the former regime of Bashar al-Assad and by those associated with it. Accordingly, certain persons previously sanctioned under E.O.s that were revoked by E.O. 14312 have been redesignated under E.O. 13894, as further amended. OFAC intends, in a separate rulemaking, to amend 31 CFR part 569 to rename it the Promoting Accountability for Assad and Regional Stabilization Sanctions Regulations and to incorporate E.O. 13894, as further amended, and other relevant authorities.

Public Participation

Because the Regulations involve a foreign affairs function, the provisions of E.O. 12866 of September 30, 1993, “Regulatory Planning and Review” (58 FR 51735, October 4, 1993), as amended, and the Administrative Procedure Act (5 U.S.C. 553) requiring notice of proposed rulemaking, opportunity for public participation, and delay in effective date, as well as the provisions of E.O. 14192 of January 31, 2025, “Unleashing Prosperity Through Deregulation” (90 FR 9065, February 6, 2025) and E.O. 14219 of February 19, 2025, “Ensuring Lawful Governance and Implementing the President's `Department of Government Efficiency' Deregulatory Initiative” (90 FR 10583, February 25, 2025) are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 542

Administrative practice and procedure, Banks, Banking, Blocking of assets, Brokers, Credit, Foreign trade, Investments, Penalties, Reporting and recordkeeping requirements, Sanctions, Securities, Services, Syria.

PART 542—[REMOVED]

For the reasons set forth in the preamble, and pursuant to 50 U.S.C. 1601 et seq. and E.O. 14312, (90 FR 29395, July 3, 2025), OFAC amends 31 CFR chapter V by removing part 542.

Bradley T. Smith,
Director, Office of Foreign Assets Control, Department of the Treasury.

[FR Doc. 2025-16324 Filed 8-25-25; 8:45 am]

BILLING CODE 4810-AL-P